DEPARTMENT OF THE INTERIOR

National Park Service

Notice of Intent to Repatriate Cultural Items in the Possession of the U.S. Department of Agriculture, Forest Service, Chugach National Forest, Anchorage, AK

AGENCY: National Park Service, Interior.

ACTION: Notice.

Notice is hereby given in accordance with provisions of the Native American Graves Protection and Repatriation Act, 43 CFR 10.10 (a)(3), of the intent to repatriate cultural items in the possession of the U.S. Department of Agriculture, Forest Service, Chugach National Forest, Anchorage, AK, that meet the definition of “unassociated funerary objects” under Section 2 of the Act.

This notice is published as part of the National Park Service’s administrative responsibilities under NAGPRA, 43 CFR 10.2 (c). The determinations within this notice are the sole responsibility of the museum, institution, or Federal agency that has control of the cultural items. The National Park Service is not responsible for the determinations within this notice.

The 33 cultural items are a dehydrated duck head, 2 pieces of damask fabric, 6 pieces of mammal leather, 3 sea mammal bones, and 21 hand-hewn wooden planks.

In 1980, U.S. Department of the Interior, Bureau of Indian Affairs, and U.S. Department of the Interior, National Park Service, Cooperative Park Studies Unit archeologists conducted a survey of the Palutat Cave site, Prince William Sound, AK. The human remains that were removed from burials during the survey were reinterred near the original burial location in 1990 through a cooperative effort of the Forest Service, Bureau of Indian Affairs, and Chugach Alaska Corporation. Cultural items that were collected during the survey in 1980 and are associated with these burials, but were not reinterred in 1990, are a dehydrated duck head, 2 pieces of damask fabric, 6 pieces of mammal leather, 3 sea mammal bones, and 21 hand-hewn wooden planks.

Knowledge of Palutat Cave derives from the work of Edmond Meany, who visited the site in 1902, and especially the work of Frederica de Laguna, whose investigations in 1933 are the primary source of archeological information about the site. Based on archeological evidence and on the large number of human remains found there, Palutat Cave is identified as a significant prehistoric Chugach/Sugpiaq site. Chugach National Forest is not in possession or control of human remains from this burial site.

Based on the above-mentioned information, officials of Chugach National Forest have determined that, pursuant to 43 CFR 10.2 (d)(2)(ii), these 33 cultural items are reasonably believed to have been placed with or near individual human remains at the time of death or later as part of the death rite or ceremony and are believed, by a preponderance of the evidence, to have been removed from specific burial sites of Native American individuals. Officials of Chugach National Forest also have determined that, pursuant to 43 CFR 10.2 (e), there is a relationship of shared group identity that can reasonably be traced between these unassociated funerary objects and the Native Village of Chenega and Native Village of Tatitlek, which are represented by Chugach Alaska Corporation.

This notice has been sent to officials of the Chugach Alaska Corporation, Chenega Corporation, Native Village of Chenega, Tatitlek Corporation, Native Village of Tatitlek, English Bay Corporation, Native Village of Nanwalek, Port Graham Corporation, Native Village of Port Graham, Eyak Corporation, and Native Village of Eyak. Representatives of any other Indian tribe that believes itself to be culturally affiliated with these unassociated funerary objects should contact Linda Finn Yarborough, Forest Archeologist, Chugach National Forest, 3301 C Street, Suite 300, Anchorage, AK 99503, telephone (907) 743-9511, facsimile (907) 743-9477, before May 10, 2002. Repatriation of these unassociated funerary objects to the Chugach Alaska Corporation may begin after that date if no additional claimants come forward.

Dated: February 21, 2002.
Robert Stearns,
Manager, National NAGPRA Program.

[FR Doc. 02-8627 Filed 4-9-02; 8:45 am]

BILLING CODE 4310-70-S